DEPARTMENT OF ENERGY

Federal Energy Regulatory Commission

[Docket No. RP00-338-003]

Mojave Pipeline Company; Notice of Proposed Changes in FERC Gas Tariff

January 13, 2004.

Take notice that on December 10, 2003, Mojave Pipeline Company tendered for filing Second Sub First Revised Sheet No. 239 as part of its FERC Gas Tariff, Second Revised Volume No. 1. This tariff sheet replaces tariff provisions that were inadvertently deleted in a recent filing.

Any person desiring to protest said filing should file a protest with the Federal Energy Regulatory Commission, 888 First Street, NE., Washington, DC 20426, in accordance with Section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: January 20, 2003.

Magalie R. Salas,
Secretary.

[FR Doc. E4-83 Filed 1-20-04; 8:45 am]

BILLING CODE 6717-01-P